GENERAL SERVICES ADMINISTRATION

[FMR Bulletin PBS-2011-B2; Docket 2011-0006; Sequence 9]

Federal Management Regulation; FMR Bulletin PBS-2011-B2; Redesignations of Federal Buildings

AGENCY: Public Buildings Service (P), General Services Administration.

ACTION: Notice of a bulletin.

SUMMARY: The attached bulletin announces the designation and redesignation of two Federal buildings.

Expiration Date: This bulletin announcement expires January 31, 2012. The building designation and redesignation remains in effect until canceled or superseded by another bulletin.

FOR FURTHER INFORMATION CONTACT: U.S. General Services Administration, Public Buildings Service (P), Attn: David E. Foley, 1800 F Street, NW., Washington, DC 20405, e-mail at david.foley@gsa.gov. (202) 501-1100.

Dated: August 12, 2011.
Martha Johnson,
Administrator of General Services.

U.S. GENERAL SERVICES ADMINISTRATION REDESIGNATIONS OF FEDERAL BUILDINGS

TO: Heads of Federal Agencies

SUBJECT: Redesignations of Federal Buildings

1. What is the purpose of this bulletin? This bulletin announces the designation and redesignation of two Federal buildings.

2. When does this bulletin expire? This bulletin announcement expires January 31, 2012. The building designation and redesignation remains in effect until canceled or superseded by another bulletin.

3. Designation. The name of the designated building under construction is as follows:

John M. Roll United States Courthouse

98 West First Street

Yuma, AZ 85364

4. Redesignation. The former and new name of the redesignated building is follows:

Former Name | New Name
Federal Building and United States Courthouse, 217 West King Street, Martinsburg, WV 25401 | W. Craig Broadwater Federal Building and United States Courthouse, 217 West King Street, Martinsburg, WV 25401.

4. Who should we contact for further information regarding designation and redesignation of these Federal buildings? U.S. General Services Administration, Public Buildings Service (P), Attn: David E. Foley, 1800 F Street, NW, Washington, DC 20405, telephone number: (202) 501-1100, e-mail at david.foley@gsa.gov.

Dated: August 12, 2011.

Martha Johnson,

Administrator of General Services.

[FR Doc. 2011-22519 Filed 9-1-11; 8:45 am]

BILLING CODE 6820-23-P